DEPARTMENT OF LABOR

Employment and Training Administration

[TA-W-58,472]

Visteon Systems, LLC, Bedford, Indiana; Amended Certification Regarding Eligibility To Apply for Worker Adjustment Assistance and Alternative Trade Adjustment Assistance

In accordance with section 223 of the Trade Act of 1974 (19 U.S.C. 2273), and section 246 of the Trade Act of 1974, as amended (19 U.S.C. 2813), the Department of Labor issued a Certification of Eligibility to Apply for Worker Adjustment Assistance and Alternative Trade Adjustment Assistance on January 20, 2006, applicable to workers of Visteon Systems LLC, Bedford, Indiana. The notice was published in the Federal Register on February 3, 2006 (71 FR 5895).

At the request of the State agency, the Department reviewed the certification for workers of the subject firm. The workers produce automotive components (fuel delivery modules, washer reservoirs, and canister vent valves).

The Department inadvertently limited the certification to workers engaged in employment related to the production that was shifted from the Bedford, Indiana plant to Mexico, fuel delivery modules. Since the workers are not separately identifiable by product, the Department intended to include all workers of the firm. Accordingly, the Department is amending the certification to correct.

The amended notice applicable to TA-W-58,472 is hereby issued as follows:

“All workers of Visteon Systems, LLC, Bedford, Indiana, totally or partially separated from employment on or after November 30, 2004, through January 20, 2008, are eligible to apply for adjustment assistance under Section 223 of the Trade Act of 1974, and are also eligible to apply for alternative trade adjustment assistance under section 246 of the Trade Act of 1974.”

Signed at Washington, DC, this 22nd day of March 2006.
Linda G. Poole,
Certifying Officer, Division of Trade Adjustment Assistance.

[FR Doc. E6-5275 Filed 4-10-06; 8:45 am]

BILLING CODE 4510-30-P